DEPARTMENT OF ENERGY

Federal Energy Regulatory Commission

Combined Notice of Filings #1

Take notice that the Commission received the following electric rate filings:

Docket Numbers: ER09-36-002.

Applicants: Prairie Wind Transmission LLC.

Description: Prairie Wind Transmission submits their Compliance filing in accordance with the Commission's December 2, 2008 Order.

Filed Date: 05/02/2011.

Accession Number: 20110502-5408.

Comment Date: 5 p.m. Eastern Time on Monday, May 23, 2011.

Docket Numbers: ER11-2275-003.

Applicants: Midwest Independent Transmission System Operator, Inc.

Description: Compliance Filing of Midwest Independent Transmission System Operator, Inc.

Filed Date: 05/02/2011.

Accession Number: 20110502-5546.

Comment Date: 5 p.m. Eastern Time on Monday, May 23, 2011.

Docket Numbers: ER11-2906-001.

Applicants: New York Independent System Operator, Inc.

Description: New York Independent System Operator, Inc. submits tariff filing per 35: Compliance Filing to Define ACL Baseline Methodology for SCRs to be effective 4/11/2011.

Filed Date: 05/02/2011.

Accession Number: 20110502-5185.

Comment Date: 5 p.m. Eastern Time on Monday, May 23, 2011.

Docket Numbers: ER11-3484-000.

Applicants: Southern California Edison Company.

Description: Southern California Edison Company submits tariff filing per 35.13(a)(2)(iii: Amend Eldorado Sytm Optng Agmt, Amend NV Connect Agmt, Submit Mohave Switchyd Agmt to be effective 4/30/2011.

Filed Date: 05/02/2011.

Accession Number: 20110502-5000.

Comment Date: 5 p.m. Eastern Time on Monday, May 23, 2011.

Docket Numbers: ER11-3485-000.

Applicants: ArcelorMittal USA LLC.

Description: ArcelorMittal USA LLC submits tariff filing per 35.13(a)(2)(iii: AMU MBRA ETariff Rev 1 to be effective 4/30/2011.

Filed Date: 05/02/2011.

Accession Number: 20110502-5003.

Comment Date: 5 p.m. Eastern Time on Monday, May 23, 2011.

Docket Numbers: ER11-3486-000.

Applicants: Golden Spread Electric Cooperative, Inc.

Description: Golden Spread Electric Cooperative, Inc. submits tariff filing per 35: 2011 Annual Update to be effective 1/1/2011.

Filed Date: 05/02/2011.

Accession Number: 20110502-5162.

Comment Date: 5 p.m. Eastern Time on Monday, May 23, 2011.

Docket Numbers: ER11-3487-000.

Applicants: Southwest Power Pool, Inc.

Description: Southwest Power Pool, Inc. submits tariff filing per 35.13(a)(2)(iii: 1148R13 American Electric Power Service Corp. NITSA NOA to be effective 4/1/2011.

Filed Date: 05/02/2011.

Accession Number: 20110502-5197.

Comment Date: 5 p.m. Eastern Time on Monday, May 23, 2011.

Docket Numbers: ER11-3488-000.

Applicants: Southwest Power Pool, Inc.

Description: Southwest Power Pool, Inc. submits tariff filing per 35.13(a)(2)(iii: 2199 Grand River Dam Authority Point to Point to be effective 4/1/2011.

Filed Date: 05/02/2011.

Accession Number: 20110502-5199.

Comment Date: 5 p.m. Eastern Time on Monday, May 23, 2011.

Docket Numbers: ER11-3489-000.

Applicants: Southwest Power Pool, Inc.

Description: Southwest Power Pool, Inc. submits tariff filing per 35.13(a)(2)(iii: 1628R2 Western Farmers Electric Cooperative NITSA NOA to be effective 4/1/2011.

Filed Date: 05/02/2011.

Accession Number: 20110502-5237.

Comment Date: 5 p.m. Eastern Time on Monday, May 23, 2011.

Docket Numbers: ER11-3490-000.

Applicants: Southwest Power Pool, Inc.

Description: Southwest Power Pool, Inc. submits tariff filing per 35: Compliance Revisions to Entergy Seams Agreement Protocols in ER10-941-002, -003 to be effective 5/2/2011.

Filed Date: 05/02/2011.

Accession Number: 20110502-5248.

Comment Date: 5 p.m. Eastern Time on Monday, May 23, 2011.

Docket Numbers: ER11-3491-000.

Applicants: PJM Interconnection, L.L.C.

Description: PJM Interconnection, L.L.C. submits tariff filing per 35.13(a)(2)(iii: Termination of PJM-FE Interregional Trans. Congestion Mgmt. in PJM's Tariff & OA to be effective 7/1/2011.

Filed Date: 05/02/2011.

Accession Number: 20110502-5334.

Comment Date: 5 p.m. Eastern Time on Monday, May 23, 2011.

Docket Numbers: ER11-3492-000.

Applicants: PJM Interconnection, L.L.C.

Description: PJM Interconnection, L.L.C. (“PJM”) submits a filing to cancel the Redispatch Agreement between First Energy Solutions Corp. (“First Energy”) and PJM, effective July 1, 2004 filed as FERC Rate Schedule No. 4.

Filed Date: 05/02/2011.

Accession Number: 20110502-5383.

Comment Date: 5 p.m. Eastern Time on Monday, May 23, 2011.

Docket Numbers: ER11-3493-000.

Applicants: Arizona Public Service Company.

Description: Arizona Public Service Company submits tariff filing per 35.13(a)(2)(iii: Amendment to Rate Schedule No. 217 to be effective7/1/2011.

Filed Date: 05/02/2011.

Accession Number: 20110502-5385.

Comment Date: 5 p.m. Eastern Time on Monday, May 23, 2011.

Docket Numbers: ER11-3494-000.

Applicants: Southwest Power Pool, Inc.

Description: Southwest Power Pool, Inc. submits tariff filing per 35.13(a)(2)(iii: 2198 Kansas Power Pool NITSA NOA to be effective 4/1/2011.

Filed Date: 05/02/2011.

Accession Number: 20110502-5388.

Comment Date: 5 p.m. Eastern Time on Monday, May 23, 2011.

Docket Numbers: ER11-3495-000.

Applicants: Central Maine Power Company.

Description: Central Maine Power Company submits tariff filing per 35.13(a)(2)(iii: Central Maine Power Company—Spruce Mountain Wind, LLC Interconnection Agrmt to be effective 4/8/2011.

Filed Date: 05/02/2011.

Accession Number: 20110502-5394.

Comment Date: 5 p.m. Eastern Time on Monday, May 23, 2011.

Docket Numbers: ER11-3496-000.

Applicants: PJM Interconnection, L.L.C.

Description: PJM Interconnection, L.L.C. submits tariff filing per 35.13(a)(2)(iii: V1-026 and V1-027 Interim ISA—Original Service Agreement No. 2860 to be effective 4/4/2011.

Filed Date: 05/02/2011.

Accession Number: 20110502-5395.

Comment Date: 5 p.m. Eastern Time on Monday, May 23, 2011.

Docket Numbers: ER11-3497-000.

Applicants: Duke Energy Carolinas, LLC.

Description: Duke Energy Carolinas, LLC submits tariff filing per 35.13(a)(1): Revisions to RS No. 273 NCEMC Catawba IA to be effective 1/1/2012.

Filed Date: 05/02/2011.

Accession Number: 20110502-5398.

Comment Date: 5 p.m. Eastern Time on Monday, May 23, 2011.

Docket Numbers: ER11-3498-000.

Applicants: Southwest Power Pool, Inc.

Description: Southwest Power Pool, Inc. submits tariff filing per 35.13(a)(2)(iii: 2207 WindFarm 66 LLC GIA to be effective 4/18/2011.

Filed Date: 05/02/2011.

Accession Number: 20110502-5401.

Comment Date: 5 p.m. Eastern Time on Monday, May 23, 2011.

Docket Numbers: ER11-3499-000.

Applicants: Florida Power Corporation.

Description: Florida Power Corporation submits tariff filing per 35.13(a)(2)(iii: Annual update of cost factors for Florida Power Corp. Interchange Agreements to be effective 5/1/2011.

Filed Date: 05/02/2011.

Accession Number: 20110502-5402.

Comment Date: 5 p.m. Eastern Time on Monday, May 23, 2011.

Docket Numbers: ER11-3500-000.

Applicants: PacifiCorp.

Description: PacifiCorp submits tariff filing per 35.13(a)(2)(iii: Deseret TSOA to be effective 6/1/2011.

Filed Date: 05/02/2011.

Accession Number: 20110502-5403.

Comment Date: 5 p.m. Eastern Time on Monday, May 23, 2011.

Docket Numbers: ER11-3501-000.

Applicants: Southwest Power Pool, Inc.

Description: Southwest Power Pool, Inc. submits tariff filing per 35: Order No. 890-A Compliance Filing from Docket No. OA08-104 to be effective 7/26/2010.

Filed Date: 05/02/2011.

Accession Number: 20110502-5404.

Comment Date: 5 p.m. Eastern Time on Monday, May 23, 2011.

Docket Numbers: ER11-3502-000.

Applicants: Tampa Electric Company.

Description: Notice of Cancellation of Tampa Electric Company Service Schedule J with Reedy Creek Improvement District.

Filed Date: 05/02/2011.

Accession Number: 20110502-5548.

Comment Date: 5 p.m. Eastern Time on Monday, May 23, 2011.

Docket Numbers: ER11-3503-000.

Applicants: Southwest Power Pool, Inc.

Description: Southwest Power Pool, Inc.'s Notice of Cancellation.

Filed Date: 05/02/2011.

Accession Number: 20110502-5549.

Comment Date: 5 p.m. Eastern Time on Monday, May 23, 2011.

Take notice that the Commission received the following land acquisition reports:

Docket Numbers: LA11-1-000.

Applicants: Goshen Phase II LLC.

Description: Quarterly Land Acquisition Report of Goshen Phase II LLC.

Filed Date: 05/02/2011.

Accession Number: 20110502-5200.

Comment Date: 5 p.m. Eastern Time on Monday, May 23, 2011.

Docket Numbers: LA11-1-000.

Applicants: BP Energy Company, BP West Coast Products LLC, Cedar Creek Wind Energy, LLC, Cedar Creek II LLC, Flat Ridge Wind Energy, LLC, Fowler Ridge II Wind Farm LLC, Fowler Ridge III Wind Farm LLC, Fowler Ridge Wind Farm LLC, Rolling Thunder I Power Partners, LLC, Watson Cogeneration Company, Whiting Clean Energy, Inc.

Description: Quarterly Land Acquisition Report of BP Energy Company, et al. under LA11-1.

Filed Date: 05/02/2011.

Accession Number: 20110502-5201.

Comment Date: 5 p.m. Eastern Time on Monday, May 23, 2011.

Docket Numbers: LA11-1-000.

Applicants: CalPeak Power LLC, CalPeak Power—Panoche LLC, CalPeak Power—Vaca Dixon LLC, CalPeak Power—El Cajon LLC, CalPeak Power—Enterprise LLC, CalPeak Power—Border LLC, Tyr Energy, LLC, Commonwealth Chesapeake Company, LLC, Fox Energy Company, LLC, Kansas Energy, LLC.

Description: CalPeak Power LLC, CalPeak Entities, Tyr Energy, LLC, Commonwealth Chesapeake Company, LLC, Fox Energy Company, LLC, and Kansas Quarterly Report of Acquisition of Sites.

Filed Date: 05/02/2011.

Accession Number: 20110502-5202.

Comment Date: 5 p.m. Eastern Time on Monday, May 23, 2011.

Docket Numbers: LA11-1-000.

Applicants: Arlington Valley, LLC, Bluegrass Generation Company, L.L.C., DeSoto County Generating Company, LLC, Griffith Energy LLC, Las Vegas Power Company, LLC, LSP University Park, LLC, LSP Safe Harbor Holdings, LLC, LS Power Marketing, LLC, Renaissance Power, L.L.C., Riverside Generating Company, L.L.C., Rocky Road Power, LLC, Tilton Energy LLC, Wallingford Energy LLC.

Description: Quarterly Land Aquisition Report of Bluegrass Generation Company, L.L.C., et al.

Filed Date: 05/02/2011.

Accession Number: 20110502-5346.

Comment Date: 5 p.m. Eastern Time on Monday, May 23, 2011.

Docket Numbers: LA11-1-000.

Applicants: ANP Blackstone Energy Company, LLC, ANP Bellingham Energy Company, LLC, ANP Funding I, LLC, Armstrong Energy Limited Partnership, L.L.L.P., Calumet Energy Team LLC, Choctaw Gas Generating LLC, Choctaw Generation Limited Partnership, FirstLight Hydro Generating Corporation, FirstLight Power Resources Management, LLC, GDF SUEZ Energy Marketing NA, Inc., Hopewell Cogeneration Limited Partnership, Hot Spring Power Company, LLC, IPA Trading, Inc., Milford Power Limited Partnership, Mt. Tom Generating Company, LLC, Northeastern Power Company, Pinetree Power—Tamworth, Inc., Pleasants Energy, LLC, Syracuse Energy Corporation, Troy Energy, LLC, Waterbury Generation LLC.

Description: GDF SUEZ MBR Sellers' Quarterly Land Acquisition Report under LA11-1.

Filed Date: 05/02/2011.

Accession Number: 20110502-5533.

Comment Date: 5 p.m. Eastern Time on Monday, May 23, 2011.

Docket Numbers: LA11-1-000.

Applicants: J. Aron & Company, Power Receivable Finance, LLC.

Description: Land Acquisition Report of J. Aron & Company and Power Receivable Finance, LLC under LA11-1.

Filed Date: 05/02/2011.

Accession Number: 20110502-5534.

Comment Date: 5 p.m. Eastern Time on Monday, May 23, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: May 03, 2011.
Nathaniel J. Davis, Sr.,
Deputy Secretary.

[FR Doc. 2011-11319 Filed 5-9-11; 8:45 am]

BILLING CODE 6717-01-P